DEPARTMENT OF ENERGY

Federal Energy Regulatory Commission

[Docket No. RP00-320-001]

Chandeleur Pipe Line Company; Notice of Compliance Filing

June 26, 2002.

Take notice that on June 21, 2002, Chandeleur Pipe Line Company (Chandeleur) tendered for filing as part of its FERC Gas Tariff, Second Revised Volume No. 1, the following revised tariff, to become effective August 1, 2002:

Second Revised Sheet No. 2

Third Revised Sheet No. 3

Third Revised Sheet No. 3A

Second Revised Sheet No. 6

Original Sheet No. 6A

Fourth Revised Sheet No. 18

Second Revised Sheet No. 18A

Fifth Revised Sheet No. 19

Sixth Revised Sheet No. 19A

First Revised Sheet No. 19A.01

First Revised Sheet No. 19A.02

Sixth Revised Sheet No. 19B

Third Revised Sheet No. 19C

Third Revised Sheet No. 27

Third Revised Sheet No. 28

Original Sheet No. 28A

Sixth Revised Sheet No. 29

First Revised Sheet No. 29A

First Revised Sheet No. 30

Third Revised Sheet No. 31

First Revised Sheet No. 31A

Fourth Revised Sheet No. 32

Original Sheet No. 32A

Second Revised Sheet No. 50

Third Revised Sheet No. 51

First Revised Sheet No. 57

First Revised Sheet No. 72

Original Sheet No. 72A

Original Sheet No. 72B

Chandeleur asserts that the purpose of this filing is to comply with the Commission's directives in Docket No. RP00-320-000 issued May 21, 2002 (May 21 Order). The tariff sheets incorporate all of the pro forma provisions approved by the May 21 Order and proposed changes to certain provisions as directed by the May 21 Order.

Any person desiring to protest said filing should file a protest with the Federal Energy Regulatory Commission, 888 First Street, NE., Washington, DC 20426, in accordance with Section 385.211 of the Commission's Rules and Regulations. All such protests must be filed on or before July 3, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-16621 Filed 7-1-02; 8:45 am]

BILLING CODE 6717-01-P